AGENCY FOR INTERNATIONAL DEVELOPMENT

Senior Executive Service: Membership of Performance Review Board

ACTION: Notice.

SUMMARY: This notice lists approved candidates who will comprise a standing roster for service on the Agency's 2019 SES Performance Review Board. The Agency will use this roster to select SES Performance Review Board members. The standing roster is as follows:

Allen, Colleen

Bader, Harry

Barnhart, Matthew

Bertram, Robert

Broderick, Deborah

Buckley, Ruth

Chan, Carol

Collins, Gregory

Crumbly, Angelique

Davis, Thomas

Detherage, Maria Price

Ehmann, Claire

Feinstein, Barbara

Foley, Jason

Fox, Mary Louise

Girod, Gayle

Gressett, Donald

Jenkins, Robert

Johnson, Mark

Harvey, Adriel

Koek, Irene

Kuyumjian, Kent

Leavitt, William

Lennon, Stephen

Lewis, Kimberly

Longi, Maria

Mahanand, Vedjai

Mitchell, Reginald

Moore, David

Ohlweiler, John

Pascocello, Susan

Peters, James

Schmitt, Tricia

Sokolowski, Alexander

Staley, Kenneth

Steele, Gloria

Vera, Mauricio

Voorhees, John

Walther, Mark

Whyche-Shaw, Oren

FOR FURTHER INFORMATION CONTACT: Karen Baquedano at 202-712-0695 or kbaquedano@usaid.gov.

Karen Baquedano,
Director, Center for Performance Excellence.

[FR Doc. 2019-05589 Filed 3-22-19; 8:45 am]

BILLING CODE P